DEPARTMENT OF COMMERCE

National Oceanic and Atmospheric Administration

[RTID 0648-XB642]

Research Track Assessment for Gulf of Maine Haddock

AGENCY: National Marine Fisheries Service (NMFS), National Oceanic and Atmospheric Administration (NOAA), Commerce.

ACTION: Notice of public meeting.

SUMMARY: NMFS will convene the Research Track Assessment Peer Review Meeting for the purpose of reviewing Gulf of Maine haddock stock. The Research Track Assessment Peer Review is a formal scientific peer-review process for evaluating and presenting stock assessment results to managers for fish stocks in the offshore U.S. and Canadian waters of the northwest Atlantic. Assessments are prepared by the research track working group and reviewed by an independent panel of stock assessment experts from the Center of Independent Experts (CIE). The public is invited to attend the presentations and discussions between the review panel and the scientists who have participated in the stock assessment process.

DATES: The public portion of the Research Track Assessment Peer Review Meeting will be held from January 25, 2022-January 27, 2022. The meeting will conclude on January 27, 2022 at 3 p.m. Eastern Standard Time. Please see SUPPLEMENTARY INFORMATION for the daily meeting agenda.

ADDRESSES: The meeting will be held via WebEx.

Link: https://noaanmfs-meets.webex.com/noaanmfs-meets/j.php?MTID=mac73d9098b946224d02f64d3d429d0b3.

Meeting number (access code): 199 778 2220.

Meeting password: hZ3XXiStH28.

FOR FURTHER INFORMATION CONTACT: Michele Traver, phone: 508-257-1642; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about research track assessment peer review, please visit the NEFSC web page at https://www.fisheries.noaa.gov/new-england-mid-atlantic/population-assessments/research-track-stock-assessments.

Daily Meeting Agenda—Research Track Peer Review Meeting

The agenda is subject to change; all times are approximate and may be changed at the discretion of the Peer Review Chair.

Time | Topic | Presenter(s) | Notes
Tuesday, January 25, 2022
10 a.m.-10:15 a.m. | Welcome/Logistics Introductions/Agenda/Conduct of Meeting | Michele Traver, Assessment Process Lead Russ Brown, PopDy Branch Chief, Richard Merrick, Panel Chair
10:15 a.m.-11:45 a.m. | TOR #3 | Charles Perretti | Survey Data.
11:45 a.m.-12 p.m. | Discussion/Summary | Review Panel
12 p.m.-12:15 p.m. | Public Comment | Public
12:15 p.m.-12:45 p.m. | Lunch
12:45 p.m.-2:15 p.m. | TOR #2 | Charles Perretti | Catch Data.
2:15 p.m.-2:30 p.m. | Discussion/Summary | Review Panel
2:30 p.m.-2:45 p.m. | Public Comment | Public
2:35 p.m.-3 p.m. | Wrap up | Review Panel
3 p.m. | Adjourn
Wednesday, January 26, 2022
10 a.m.-10:15 a.m. | Welcome/Logistics | Michele Traver, Assessment Process Lead Richard Merrick, Panel Chair
10:15 a.m.-11:15 a.m. | TORs #1, #9, and #10 | Charles Perretti | Ecosystem, Recruitment Processes, and Density Dependent Growth.
11:15 a.m.-12:15 p.m. | TOR #4 | Charles Perretti | Mortality, Recruitment and Biomass Estimates.
12:15 p.m.-12:30 p.m. | Discussion/Summary | Review Panel
12:30 p.m.-12:45 p.m. | Public Comment | Public
12:45 p.m.-1:15 p.m. | Lunch
1:15 p.m.-2:15 p.m. | TORs #5 and #6 | Charles Perretti | BRPs and Projections.
2:15 p.m.-2:30 p.m. | Discussion/Summary | Review Panel
2:30 p.m.-2:45 p.m. | Public Comment | Public
2:45 p.m.-3 p.m. | Wrap up | Review Panel
3 p.m. | Adjourn
Thursday, January 27, 2022
10 a.m.-10:15 a.m. | Welcome/Logistics | Michele Traver, Assessment Process Lead Richard Merrick, Panel Chair
10:15 a.m.-11:15 a.m. | TORs #8 and #7 | Charles Perretti Brian Linton | Alternative Assessment Approach and Research Recommendations.
11:15 a.m.-11:30 a.m. | Discussion/Summary | Review Panel
11:30 a.m.-11:45 a.m. | Public Comment | Public
11:45 a.m.-12:15 p.m. | Wrap up | Review Panel
12:15 p.m.-12:45 p.m. | Lunch
12:45 p.m.-3 p.m. | Report Writing | Review Panel
3 p.m. | Adjourn

The meeting is open to the public; however, during the `Report Writing' session on Thursday, January 27th, the public should not engage in discussion with the Peer Review Panel.

Special Accommodations

This meeting is physically accessible to people with disabilities. Special requests should be directed to Michele Traver, via email.

Dated: January 20, 2022.
Ngagne Jafnar Gueye,
Acting Director, Office of Sustainable Fisheries National Marine Fisheries Service.

[FR Doc. 2022-01425 Filed 1-24-22; 8:45 am]

BILLING CODE 3510-22-P